ENVIRONMENTAL PROTECTION AGENCY

[ER-FRL-6628-9]

Environmental Impact Statements and Regulations; Availability of EPA Comments

Availability of EPA comments prepared pursuant to the Environmental Review Process (ERP), under Section 309 of the Clean Air Act and Section 102(2)(c) of the National Environmental Policy Act as amended. Requests for copies of EPA comments can be directed to the Office of Federal Activities at (202) 564-7167. An explanation of the ratings assigned to draft environmental impact statements (EISs) was published in FR dated April 12, 2002 (67 FR 17992).

Draft EISs

ERP No. D-BIA-K65237-CA Rating EC2, Agua Caliente Indian Reservation Project, Proposed Section 14 Specific Plan and Master Development Plan, Agua Caliente Band of Cahulla Indians, City of Palm Springs, Riverside County, CA.

Summary: EPA expressed environmental concerns about impacts to air and water quality, and the use of 1995 market studies to project growth and assess project impacts.

ERP No. D-COE-J28021-CO Rating EC2, Rueter-Hess Reservoir Project, Construction and Operation, Proposed Water Supply Reservoir and Off-Stream Dam, US COE Section 404 Permit, Endangered Species Act (Section 7) and Right-of-Way Use Permit, Located on Newlin Gulch along Cherry Creek, Town of Parker, Douglas County, CO.

Summary: EPA expressed environmental concerns that the document failed to compare the impacts of the alternatives on the existing environment, primarily the impacts of the stream depletions. EPA was also concerned that the project meets only a small portion of the expected demand for water in the project area, does not document the likely water quality of the proposed reservoir, and does not contain a sufficiently detailed mitigation plan.

ERP No. D-FRC-L05223-WA Rating EO2, Martin Creek Hydroelectric Project (FERC Project No. 10942), Construction, Operation and Maintenance of a 10.2-Megawatt (MW) Hydroelectric Run-of-River Facility, License Approval, Cascade Mountains, Martin and Kelley Creeks, Mt. Baker-Sqoqualmie National Forest, King County, WA.

Summary: EPA expressed environmental objections to the proposed project based on the lack of a demonstrated public interest need for the project, the potential to undermine protections prescribed in the Northwest Forest Plan and the adverse impacts to water quality in a state-designated “extraordinary” water body. EPA recommended that analyses needed to define project impacts and identify mitigation measures be conducted and incorporated in the EIS. EPA recommended selection of the No Action alternative.

ERP No. D-NOA-E91010-00 Rating EC2, Amendment 13 to the Fishery Management Plan for Summer Flounder, Scup, and Black Sea Bass, Implementation, in the Western Atlantic Ocean, from Cape Hatteras, NC, northward to the U.S.-Canadian Border.

Summary: Although EPA defers to NOAA/NMFS, we generally support most of the presented approaches in Amendment 13 to allocate commercial harvests of black sea bass and protection against gear effects of structured EFH used by summer flounder and black sea bass. An example of an option we do not support is the “wet storage” of posts/traps during a fishing closure since it is counter productive to the purpose of the closure.

ERP No. D-TVA-E39057-00 Rating EO2, Nolichucky Reservoir Flood Remediation Project, To Identify and Evaluate Ways to Address Flooding Effects of Nolichucky Dam and the Accumulated Sediment in Nolichucky Reservoir on Land and Property Not Owned by the Federal Government, NPDES Permit and US Army COE 404 Permit, several counties in TN and NC.

Summary: EPA is concerned that the lowering or removal of the dam would result in loss of high quality reservoir fringe wetlands, erosion of exposed reservoir banks, increased sedimentation downstream, and significant lowering of the water table. EPA recommended that reservoir dredging be considered in the FEIS, and that issues regarding sediment quality, resuspension and downstream effects be examined. Additional information on upstream sediment sources and their potential control should also be disclosed.

Final EISs

ERP No. F-AFS-J65009-00Programmatic EIS—Kootena, Idaho Panhandle, and Lolo National Forests, Forest Plan Amendments for Access Management within the Selkirk and Cabinet-Yaak Grizzly Bear Recovery Zones, ID, WA and MT.

Summary: EPA expressed lack of objections. EPA supports continuing interagency evaluation of site-specific and seasonal grizzly bear habitat needs for each Bear Management Unit and continued coordination between wildlife and water quality fisheries technical staffs in developing specific road management proposals.

ERP No. F-CGD-A59014-00Programmatic EIS—Integrated Deepwater System Project, For Surface, Air, Logistics Communication and Sensor Systems, To Replace Its Aging Nation-Wide System, Nation-Wide.

Summary: EPA requested that the Coast Guard commit in the Record of Decision (ROD) to analyzing cumulative and indirect impacts from future homeporting/homebasing decisions on a broad scale.

ERP No. F-COE-K39069-CAPine Flat Dam Fish and Wildlife Habitat Restoration Investigation, Restoration and Protection of the Ecosystem for Fish and Wildlife Resources, King River Basin, Fresno County, CA.

Summary: EPA expressed support for the project, as it will improve fishery and wildlife habitat, reestablish the historic floodplain and native plant communities, and improve water quality in Byrd Slough and the King River.

ERP No. F-COE-L90029-WALower Snake River Juvenile Salmon Migration Feasibility Study, Implementation, To Increase the Survival of Juvenile Anadromous Fish, Snake River, Walla Walla, WA.

Summary: EPA had no objection to the action as proposed.

ERP No. F-FRC-K05057-CABig Creek No. 4 Hydroelectric Project, Issuing New License, (FERC Project No. 2017), San Joaquin River Basin, Sierra National Forest, Fresno, Madera and Tulare Counties, CA.

Summary: EPA continues to have environmental concerns about this project, including impacts to fishery habitat, the segmented approach for evaluating the Big Creek System, and an insufficient range of alternatives.

ERP No. F-USA-A10074-00Programmatic EIS—Army Transformation, Army Vision to Address the Changing Circumstances of the 21st Century, Transformation in three Phases: Initial Phase, Interim Capacibility Phase, and an Objective Force Phase.

Summary: EPA had no objections to the proposed action.

ERP No. F-USN-E65055-FLRenewal of Authorization to Use Pinecastle Range, Continue Use of the Range for a 20-Year Period, Special Use Permit Issuance, Ocala National Forest, Marion and Lake Counties, FL.

Summary: Extension of lease agreement does not appear to result in unacceptable environmental impacts to the range and its environs.

ERP No. F-USN-K11034-CAPoint Mugu Sea Range Naval Air Warfare Center Weapons Division (NAWCWPWS), Proposal To Accommodate TMD Testing and Training, Additional Training Exercises, Ventura, Los Angeles, Santa Barbara, San Diego and San Luis Obispo Counties, CA.

Summary: No formal comment letter was sent to the preparing agency.

ERP No. FS-COE-E39058-TNChickamauga Dam Navigation Project, New and Updated Information concerning Cumulative Effects and Compliance with Section 106 of the Historic Preservation Act, NPDES, US Army COE Section 404 and US Coast Guard Permits Issuance, Tennessee River, Hamilton County, TN.

Summary: No significant issues were identified which would require substantive changes to the upgrade proposal.

Dated: April 30, 2002.
B. Katherine Biggs,
Associate Director, NEPA Compliance Division, Office of Federal Activities.

[FR Doc. 02-11043 Filed 5-2-02; 8:45 am]

BILLING CODE 6560-50-U